DEPARTMENT OF EDUCATION

Applications for New Awards; Expanding Opportunity Through Quality Charter Schools Program (CSP)—Grants to State Entities; Correction.

AGENCY: Office of Innovation and Improvement, Department of Education.

ACTION: Notice; correction.

Catalog of Federal Domestic Assistance (CFDA) Number: 84.282M.

SUMMARY: On March 27, 2017, we published in the Federal Register (82 FR 15196) a notice inviting applications for new awards for fiscal year (FY) 2017 for the CSP Grants to State Entities program. This document clarifies the Department's interpretation of section 4303(e)(1) of the Elementary and Secondary Education Act of 1965, as amended by the Every Student Succeeds Act (ESEA); corrects the agency contact information and the types of activities a State entity may carry out directly or through grants, contracts, or cooperative agreements; and extends the deadlines for transmittal of applications and intergovernmental review.

DATES:

Deadline for Transmittal of Applications: May 18, 2017.

Deadline for Intergovernmental Review: July 17, 2017.

FOR FURTHER INFORMATION CONTACT: Kathryn Meeley, U.S. Department of Education, 400 Maryland Avenue SW., Room 4W257, Washington, DC 20202-5970. Telephone: (202) 453-6818, or by email: kathryn.meeley@ed.gov.

If you use a telecommunications device (TDD) for the deaf or a text telephone (TTY), call the Federal Relay Service, toll free, at 1-800-877-8339.

SUPPLEMENTARY INFORMATION: On March 27, 2017, we published in the Federal Register (82 FR 15196) a notice inviting applications for new awards for FY 2017 for the CSP Grants to State Entities program. We are clarifying the Department's interpretation of section 4303(e)(1) of the ESEA; correcting the agency contact information; and extending the deadlines for transmittal of applications and intergovernmental review to May 18, 2017 and July 17, 2017, respectively. In addition, we are correcting the statement regarding the types of activities a State entity may carry out under this program directly or through grants, contracts, or cooperative agreements (i.e., providing technical assistance and working with authorized public chartering agencies to improve authorizing quality).

Section 4303(b)(2) authorizes State entities to “provide technical assistance to eligible applicants and authorized public chartering agencies” and to “work with authorized public chartering agencies in the State to improve authorizing quality.” This correction clarifies that a State entity may carry out the technical assistance and authorizing quality improvement activities specified in section 4303(b)(2) of the ESEA directly or through grants, contracts, or cooperative agreements.

All other requirements and conditions stated in the notice inviting applications remain the same.

Interpretation

On page 15201, in the left column, in the second paragraph of the section entitled “Eligible Applicants,” we clarify the statement, “Under section 4303(e)(1) of the ESEA, no State entity may receive a grant under this program for use in a State in which a State entity is currently using a grant received under this program.” Because the FY 2017 CSP Grants to State Entities competition is the first such competition under the newly reauthorized CSP, all State entities, including State educational agencies (SEAs), in all States are eligible to apply for a grant, even if the State entity (including the SEA) is located in a State in which the SEA is currently using a grant awarded prior to FY 2017 under the previous authorization of the CSP. However, no applicant may receive a new award to conduct the same activities that are approved under an existing active grant; therefore, applications for new awards that are submitted by State entities located in States where the SEA has an active grant awarded prior to FY 2017 under the previous authorization of the CSP should propose to conduct activities that are outside the scope of the active grant.

Corrections

In FR Doc. No. 2017-06017, in the Federal Register of March 27, 2017 (82 FR 15196), we make the following corrections:

(a) On page 15196, in the middle column, after the words “Deadline for Transmittal of Applications”, we remove the date “May 11, 2017” and replace it with the date “May 18, 2017”.

(b) On page 15196, in the middle column, after the words “Deadline for Intergovernmental Review”, we remove the date “July 10, 2017” and replace it with the date “July 17, 2017”.

(c) On page 15202, in the first column, after the words “Deadline for Transmittal of Applications”, we remove the date “May 11, 2017” and replace it with the date “May 18, 2017”.

(d) On page 15202, in the first column, after the words “Deadline for Intergovernmental Review”, we remove the date “July 10, 2017” and replace it with the date “July 17, 2017”.

(e) On page 15202, in the middle column, in the last sentence of the first paragraph in the section entitled “Funding Restrictions”, we replace the phrase “activities authorized under this program” with “activities authorized under section 4303(b)(2) of the ESEA”.

(f) On page 15207, in the middle column, after the heading “VII. Agency Contact”, we add the following contact information:

For Further Information Contact: Kathryn Meeley, U.S. Department of Education, 400 Maryland Avenue SW., Room 4W257, Washington, DC 20202-5970. Telephone: (202) 453-6818, or by email: kathryn.meeley@ed.gov.

If you use a TDD or a TTY, call the FRS, toll free, at 1-800-877-8339.

All other requirements and conditions stated in the notice inviting applications remain the same.

Program Authority: Title IV, Part C of the ESEA (20 U.S.C. 7221-7221j).

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 20, 2017.
Margo Anderson,
Acting Assistant Deputy Secretary for Innovation and Improvement.

[FR Doc. 2017-08362 Filed 4-24-17; 8:45 am]

BILLING CODE 4000-01-P